Title 3—

The President

Proclamation 10855 of November 6, 2024

Veterans Day, 2024

By the President of the United States of America

A Proclamation

Today, we honor generations of America's veterans—patriots who have stood on the frontlines of freedom and kept the light of liberty shining bright around the world. Just as they have kept the ultimate faith in our Nation, we must keep ultimate faith in them.

Each one of our Nation's veterans is a link in a chain of honor that stretches back to our founding days—bound by a sacred oath to support and defend the United States of America. Throughout history, whenever and wherever the forces of darkness have sought to extinguish the flame of freedom, America's veterans have been fighting to keep it burning bright. I remember so clearly the pride the First Lady and I felt in our son Beau during his service in Iraq. He—like all our veterans from Belleau Wood, Baghdad, and Gettysburg to Guadalcanal, Korea, and Kandahar and beyond—lived, served, and sacrificed by a creed of duty. We owe them a debt of gratitude we can never fully repay, not just for fighting for our democracy, but for giving back to our communities and inspiring the next generation to serve, even after they hang up their uniforms.

As a Nation, we have one truly sacred obligation: to prepare and equip those we send into harm's way and to care for them and their families when they return home. Since I came into office, I have signed more than 34 bipartisan laws to support our veterans and their families, caregivers, and survivors. That includes the landmark Sergeant First Class Heath Robinson Honoring our Promise to Address Comprehensive Toxics (PACT) Act, which enacted the most significant expansion of benefits and services for veterans exposed to toxins in more than 30 years. Today, more than 1.1 million veterans and 11,000 survivors of deceased veterans are now receiving new service-connected disability benefits, and over 5.8 million veterans have been screened for toxic exposure—a critical step to ensuring they get access to the care they need. And as of last March, any exposed veteran who served during any conflict outlined in the PACT Act will be able to enroll in the Department of Veterans Affairs (VA) health care. My Administration is ensuring that women veterans enrolled in the Department of Veterans Affairs health care have equitable access to benefits and health services. My Administration has worked to reduce barriers and reach out to veterans to make sure they can access their earned benefits. As a result, the VA is delivering more benefits to more veterans than ever before. In 2024, the VA processed more claims than ever and is providing record level health care services. We have taken steps to eliminate barriers and disparities for all veterans, including people of color, LGBTQI+ people, and women. We have made progress in addressing veteran homelessness, and we are working to end the silent scourge of suicide by addressing financial and legal risk factors, promoting secure storage of firearms, and expanding access to mental health services. Last year, the VA housed nearly 48,000 veterans, expanded access to health care and legal assistance for homeless veterans, and helped more than 158,000 veterans and their families keep their homes. And we are committed to assisting the roughly 200,000 service members who transition from the military each year with finding good-paying jobs, including by connecting them to Registered Apprenticeship programs. My Administration has also prioritized supporting veteran entrepreneurship. This year, service-disabled veteran-owned small businesses secured almost $32 billion in Federal contracts, nearly $4 billion more than in the prior year.

While our veterans are the steel spine of this Nation, their families are the courageous heart—they also serve and sacrifice so much for our country. Last year, I signed an Executive Order calling for the most comprehensive set of administrative actions in our Nation's history to support the economic security of military and veteran spouses, caregivers, and survivors. The Executive Order increases training and employment opportunities for military spouses in the workforce and encourages Federal agencies to do more to retain military and veteran spouses through flexible policies. Additionally, through the First Lady's Joining Forces initiative, my Administration is working to better support military and veteran families on everything from making school transitions easier for military children to expanding economic opportunities and improving well-being for military spouses, caregivers, and survivors.

Earlier this year, I had the opportunity to visit Normandy to mark the 80th anniversary of D-Day alongside so many World War II veterans. Their service and sacrifice helped free the world from tyranny. We learned then what we still know now: Democracy is never guaranteed. Every generation must preserve it, defend it, and fight for it. Today, we honor all our veterans, who have preserved, defended, and fought for our democracy. They prove that we are a Nation that can meet darkness with light again and again, no matter how high the cost or how heavy the burden. May we all strive to be worthy of their sacrifices for us, doing our part to keep the light of liberty burning bright for generations to come.

In respect and recognition of the contributions our veterans and their families, caregivers, and survivors have made to the cause of peace and freedom around the world, the Congress has provided (5 U.S.C. 6103(a)) that November 11 of each year shall be set aside as a legal public holiday to honor our Nation's veterans.

NOW, THEREFORE, I, JOSEPH R. BIDEN JR., President of the United States of America, do hereby proclaim November 11, 2024, as Veterans Day. I encourage all Americans to recognize the valor, courage, and sacrifice of these patriots through appropriate ceremonies and private prayers and by observing two minutes of silence for our Nation's veterans. I also call upon Federal, State, and local officials to display the flag of the United States of America and to participate in patriotic activities in their communities.

IN WITNESS WHEREOF, I have hereunto set my hand this sixth day of November, in the year of our Lord two thousand twenty-four, and of the Independence of the United States of America the two hundred and forty-ninth.

[FR Doc. 2024-26249

Filed 11-8-24; 8:45 am]

Billing code 3395-F4-P